DEPARTMENT OF COMMERCE

International Trade Administration

[A-533-810]

Stainless Steel Bar from India: Notice of Extension of Time Limit for the Final Results of the 2006-2007 Antidumping Duty Administrative Review

AGENCY: Import Administration, International Trade Administration, Department of Commerce.

EFFECTIVE DATE: June 24, 2008.

FOR FURTHER INFORMATION CONTACT: Devta Ohri, AD/CVD Operations, Office 1, Import Administration, International Trade Administration, U.S. Department of Commerce, 14th Street and Constitution Avenue, NW, Washington, DC 20230; telephone (202) 482-3853.

SUPPLEMENTARY INFORMATION:

Background

On February 21, 1995, the Department of Commerce (“Department”) published in the Federal Register the antidumping duty order on stainless steel bar (“SSB”) from India. See Antidumping Duty Orders: Stainless Steel Bar form Brazil, India and Japan, 60 FR 9661 (February 21, 1995). On March 28, 2007, the Department published a notice in the Federal Register initiating an administrative review of the antidumping duty order on SSB from India for three companies for the period of review (“POR”) February 1, 2006, through January 31, 2007. See Initiation of Antidumping and Countervailing Duty Administrative Reviews, 72 FR 14516 (February 28, 2007). On March 7, 2008, the Department published its preliminary results of the 2006-2007 antidumping duty administrative review. See Stainless Steel Bar from India: Notice of Preliminary Results and Partial Rescission of Antidumping Duty Administrative Review, 73 FR 12382 (March 7, 2008); as corrected, Stainless Steel Bar from India: Notice of Preliminary Results and Partial Rescission of Antidumping Duty Administrative Review, 73 FR 15049 (March 20, 2008). The final results for this review are currently due no later than July 7, 2008.

Extension of Time Limit of Final Results

Section 751(a)(3)(A) of the Tariff Act of 1930, as amended (“the Act”), requires the Department to issue final results within 120 days after the date on which the preliminary results are published. However, if it is not practicable to complete the review within this time period, section 751(a)(3)(A) of the Act allows the Department to extend the time period to a maximum of 180 days.

Completion of the final results of the administrative review within the 120-day period in this case is not practicable because, following the preliminary results, the Department issued a comprehensive supplemental questionnaire concerning Sunflag Iron & Steel Co. Ltd.'s (“Sunflag”) affiliations. In addition, the Department has received multiple deficiency comments from domestic interested parties. The Department requires additional time to analyze the Sunflag's supplemental questionnaire response and the comments from the domestic interested parties.

Because it is not practicable to complete this review within the time specified under the Act, we are fully extending the time period for issuing the final results of the administrative review in accordance with section 751(a)(3)(A) of the Act. Therefore, the final results are now due no later than September 3, 2008.

This notice is published pursuant to sections 751(a) and 777(i) of the Act.

Dated: June 18, 2008.
Stephen J. Claeys,
Deputy Assistant Secretary for Import Administration.

[FR Doc. E8-14271 Filed 6-23-08; 8:45 am]

BILLING CODE 3510-DS-S